DEPARTMENT OF ENERGY

Federal Energy Regulatory Commission

Combined Notice of Filings #1

Take notice that the Commission received the following electric corporate filings:

Docket Numbers: EC16-110-002.

Applicants: Fortis Inc., Finn Investment Pte. Ltd., FortisUS Inc., ITC Investment Holdings Inc., Element Acquisition Sub Inc., Enterprise Holdings Pte. Ltd., ITC Holdings Corp.

Description: Informational Report of ITC Holdings Corp.

Filed Date: 9/15/21.

Accession Number: 20210915-5202.

Comment Date: 5 pm ET 10/6/21.

Take notice that the Commission received the following exempt wholesale generator filings:

Docket Numbers: EG21-256-000.

Applicants: AP Solar 2, LLC.

Description: Notice of Self-Certification of Exempt Wholesale Generator Status of AP Solar 2, LLC.

Filed Date: 9/20/21.

Accession Number: 20210920-5015.

Comment Date: 5 pm ET 10/12/21.

Take notice that the Commission received the following electric rate filings:

Docket Numbers: ER18-2497-010.

Applicants: Lawrenceburg Power, LLC.

Description: Compliance filing: Lawrenceburg Reactive Supply Settlement Compliance to be effective 12/1/2018.

Filed Date: 9/20/21.

Accession Number: 20210920-5116.

Comment Date: 5 pm ET 10/12/21.

Docket Numbers: ER21-2282-001.

Applicants: PPL Electric Utilities Corporation, PJM Interconnection, L.L.C.

Description: Tariff Amendment: PPL Electric Utilities Corporation submits tariff filing per 35.17(b): PJM Transmission Owners' Response to FERC Staff's Deficiency Letter to be effective 8/30/2021.

Filed Date: 9/20/21.

Accession Number: 20210920-5076.

Comment Date: 5 pm ET 10/12/21.

Docket Numbers: ER21-2903-000.

Applicants: PJM Interconnection, L.L.C.

Description: § 205(d) Rate Filing: Amendment to WMPA, Service Agreement No. 5696; Queue No. AF1-140 to be effective 6/11/2020.

Filed Date: 9/20/21.

Accession Number: 20210920-5012.

Comment Date: 5 pm ET 10/12/21.

Docket Numbers: ER21-2904-000.

Applicants: MidAmerican Central California Transco, LLC.

Description: Compliance filing: Order No. 864 Compliance Filing to be effective 1/27/2020.

Filed Date: 9/20/21.

Accession Number: 20210920-5036.

Comment Date: 5 pm ET 10/12/21.

Docket Numbers: ER21-2905-000.

Applicants: American Electric Power Service Corporation, Indiana Michigan Power Company, PJM Interconnection, L.L.C.

Description: § 205(d) Rate Filing: American Electric Power Service Corporation submits tariff filing per 35.13(a)(2)(iii: AEP submits one FA re: ILDSA SA No. 5120 to be effective 11/20/2021.

Filed Date: 9/20/21.

Accession Number: 20210920-5070.

Comment Date: 5 pm ET 10/12/21.

Docket Numbers: ER21-2906-000.

Applicants: Niagara Mohawk Power Corporation, New York Independent System Operator, Inc.

Description: § 205(d) Rate Filing: Niagara Mohawk Power Corporation submits tariff filing per 35.13(a)(2)(iii: 205 joint SGIA among NYISO, NMPC, SunEast Hills Solar, SA2646 to be effective 9/7/2021.

Filed Date: 9/20/21.

Accession Number: 20210920-5088.

Comment Date: 5 pm ET 10/12/21.

Docket Numbers: ER21-2907-000.

Applicants: New York Independent System Operator, Inc., Niagara Mohawk Power Corporation.

Description: § 205(d) Rate Filing: New York Independent System Operator, Inc. submits tariff filing per 35.13(a)(2)(iii: 205 Joint NYISO National Grid SGIA 2647 with SunEast Fairway to be effective 9/7/2021.

Filed Date: 9/20/21.

Accession Number: 20210920-5090.

Comment Date: 5 pm ET 10/12/21.

Docket Numbers: ER21-2908-000.

Applicants: Georgia Power Company.

Description: Tariff Amendment: Termination of JEA and FP&L Scherer Unit 4 TSAs to be effective 12/31/2021.

Filed Date: 9/20/21.

Accession Number: 20210920-5092.

Comment Date: 5 pm ET 10/12/21.

Docket Numbers: ER21-2909-000.

Applicants: PacifiCorp.

Description: § 205(d) Rate Filing: UAMPS Agmt Re Self Supply of Ancillary Serv Sched 5 and/or 6 to be effective 9/17/2021.

Filed Date: 9/20/21.

Accession Number: 20210920-5097.

Comment Date: 5 pm ET 10/12/21.

Docket Numbers: ER21-2910-000.

Applicants: Northern States Power Company, a Minnesota corporation.

Description: § 205(d) Rate Filing: 2021-09-20-NSP-EREPC-BeaverCreek-SISA-693-0.0.0 to be effective 9/21/2021.

Filed Date: 9/20/21.

Accession Number: 20210920-5112.

Comment Date: 5 pm ET 10/12/21.

Take notice that the Commission received the following electric securities filings:

Docket Numbers: ES21-81-000.

Applicants: PPL Electric Utilities Corporation.

Description: Application Under Section 204 of the Federal Power Act for Authorization to Issue Securities of PPL Electric Utilities Corporation.

Filed Date: 9/17/21.

Accession Number: 20210917-5194.

Comment Date: 5 pm ET 10/8/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2021.
Debbie-Anne A. Reese,
Deputy Secretary.

[FR Doc. 2021-20769 Filed 9-23-21; 8:45 am]

BILLING CODE 6717-01-P